FEDERAL MARITIME COMMISSION

[Docket No. 01-12]

Commonwealth Shipping Ltd., Cargo Carriers Ltd., Martyn C. Merritt and Mary Anne Merritt—Submission of Materially False or Misleading Statements to the Federal Maritime Commission and False Representation of Common Carrier Vessel Operations; Notice of Show Cause Proceeding

Notice is given that the Commission, on December 11, 2001, served an Order to Show Cause (“Order”) on Cargo Carriers Ltd., Commonwealth Shipping Ltd., Martyn C. Merritt and Mary Anne Merritt.

Cargo Carriers Ltd. is a licensed ocean transportation intermediary (“OTI”) that operates as a non-vessel-operating common carrier and ocean freight forwarder (FMC Organization No. 13507). It appears that Cargo Carriers Ltd.'s 1999 OTI license application contains false information concerning its qualifying individual and the sharing of office space with a company controlled by Mary Anne Merritt.

Commonwealth Shipping Ltd. holds itself out to the public as an ocean common carrier in its tariff and FMC-1 form (FMC Organization No. 9587). Martyn and Mary Anne Merritt have been identified as corporate directors of this company, which is located at the same address as Cargo Carriers Ltd. For a common carrier to be considered an ocean common carrier under the Shipping Act of 1984, it must operate a vessel on the high seas between a port in the United States and a foreign port. Commonwealth Shipping Ltd. does not appear to operate any vessels on the high seas between a port in the United States and a foreign port. Therefore, it appears that Commonwealth Shipping Ltd.'s tariff in which it is identified as a vessel-operating common carrier contains false information.

The Order directs Cargo Carriers Ltd. to show cause why the Commission should not order the revocation of its ocean transportation intermediary license for providing materially false or misleading statements to the Commission; and to show cause why the Commission should not order the cancellation of its non-vessel-operating common carrier tariff if its license is revoked. The Order also directs Commonwealth Shipping Ltd. show cause why the Commission should not order the cancellation of its tariff holding itself out to the public as an ocean common carrier because it does not operate as an ocean common carrier. The Order further directs Cargo Carriers Ltd., Commonwealth Shipping Ltd., Martyn C. Merritt and Mary Anne Merritt show cause why the Commission should not order Cargo Carriers Ltd., Commonwealth Shipping Ltd., Martyn C. Merritt and Mary Anne Merritt to cease and desist from future violations of the Shipping Act of 1984.

The full text of the Order may be viewed on the Commission's homepage at www.fmc.gov, or at the Office of the Secretary, Room 1046, 800 N. Capitol Street, NW., Washington, DC.

Any person having an interest and desiring to intervene in this proceeding shall file a petition for leave to intervene no later than December 31, 2001 in accordance with 46 CFR 502.72.

Bryant L. VanBrakle,
Secretary.

[FR Doc. 01-31269 Filed 12-18-01; 8:45 am]

BILLING CODE 6730-01-P